DEPARTMENT OF TRANSPORTATION

Federal Aviation Administration

14 CFR Part 39

[Docket No. 2003-NM-84-AD]

RIN 2120-AA64

Airworthiness Directives; Boeing Model 747-100, 747-100B, 747-100B SUD, 747-200B, 747-200C, 747-200F, 747-300, 747SP, and 747SR Series Airplanes

AGENCY: Federal Aviation Administration, DOT.

ACTION: Notice of proposed rulemaking (NPRM).

SUMMARY: This document proposes the adoption of a new airworthiness directive (AD) that is applicable to certain Boeing Model 747-100, 747-100B, 747-100B SUD, 747-200B, 747-200C, 747-200F, 747-300, 747SP, and 747SR series airplanes. This proposal would require a one-time inspection of each emergency evacuation slide or slide/raft to determine if a certain discrepant hose assembly is installed, and replacement of the hose assembly with a new or serviceable assembly if necessary. This action is necessary to prevent the failure of an emergency evacuation slide or slide/raft to fully inflate during an emergency situation, which could impede an evacuation and result in injury to passengers or airplane crewmembers. This action is intended to address the identified unsafe condition.

DATES: Comments must be received by August 25, 2003.

ADDRESSES: Submit comments in triplicate to the Federal Aviation Administration (FAA), Transport Airplane Directorate, ANM-114, Attention: Rules Docket No. 2003-NM-84-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-84-AD” in the subject line and need not be submitted in triplicate. Comments sent via the Internet as attached electronic files must be formatted in Microsoft Word 97 or 2000 or ASCII text.

The service information referenced in the proposed rule may be obtained from BFGoodrich Aircraft Evacuation Systems, 3414 S. Fifth Street, Phoenix, Arizona 85040. This information may be examined at the FAA, Transport Airplane Directorate, 1601 Lind Avenue, SW., Renton, Washington.

FOR FURTHER INFORMATION CONTACT: Patrick Gillespie, Aerospace Engineer, Airframe Branch, ANM-120S, FAA, Seattle Aircraft Certification Office, 1601 Lind Avenue, SW., Renton, Washington 98055-4056; telephone (425) 917-6429; fax (425) 917-6590.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-84-AD.” The postcard will be date stamped and returned to the commenter.

Availability of NPRMs

Any person may obtain a copy of this NPRM by submitting a request to the FAA, Transport Airplane Directorate, ANM-114, Attention: Rules Docket No. 2003-NM-84-AD, 1601 Lind Avenue, SW., Renton, Washington 98055-4056.

Discussion

The FAA has received reports indicating that, during a recent emergency evacuation aboard a Boeing Model 747-200B series airplane, two of the airplane's emergency evacuation slides did not fully inflate and were unusable during the evacuation. Investigation revealed that one of the two slides failed to fully inflate because one of the two inflation hoses for the slide had fractured at the hose fitting. (The cause of the other slide's underinflation has not been identified.) Similar fractures of the slide inflation hose at the swivel (lock) wire groove have been reported on other Boeing Model 747-100, 747-100B, 747-100B SUD, 747-200B, 747-200C, 747-200F, 747-300, 747SP, and 747SR series airplanes. Fracture of an inflation hose for an emergency evacuation slide could result in failure of the emergency evacuation slide or slide/raft to fully inflate during an emergency situation, which could impede an evacuation and result in injury to passengers or airplane crewmembers.

The discrepant inflation hose assemblies were manufactured before May 30, 1983, and installed on Boeing Model 747-100, 747-100B, 747-100B SUD, 747-200B, 747-200C, 747-200F, 747-300, 747SP, and 747SR series airplanes. As of May 30, 1983, the manufacturer of the inflation hose assembly began manufacturing modified hose assemblies. As of that date, new evacuation slides or slide/rafts were shipped with the modified hose assemblies. Therefore, Boeing Model 747-100, 747-100B, 747-100B SUD, 747-200B, 747-200C, 747-200F, 747-300, 747SP, and 747SR series airplanes equipped with evacuation slides or slide/rafts that may have inflation hose assemblies manufactured before May 30, 1983, are subject to this proposed AD.

Explanation of Relevant Service Information

We have reviewed and approved BFGoodrich Service Bulletin 25-241, dated September 30, 1991. That service bulletin describes procedures for inspecting the part number information label on each inflation hose assembly on each emergency evacuation slide or slide/raft to determine the manufacturing/test date of the inflation hose assembly. For any hose assembly with a manufacturing/test date before May 30, 1983, the service bulletin specifies to replace the inflation hose assembly with a new or serviceable (modified) hose assembly. Accomplishment of the actions specified in the service bulletin is intended to adequately address the identified unsafe condition.

Explanation of Requirements of Proposed Rule

Since an unsafe condition has been identified that is likely to exist or develop on other products of this same type design, the proposed AD would require accomplishment of the actions specified in the service bulletin described previously, except as discussed below.

Difference Between Proposed AD and Service Bulletin

The service bulletin recommends that the actions therein be accomplished “at the next scheduled maintenance action.” We find that such a non-specific compliance time may not ensure that the proposed actions are accomplished in a timely manner. In developing an appropriate compliance time for this action, we considered the safety implications, operators' normal maintenance schedules, and the compliance time recommended by the airplane manufacturer. In consideration of these items, we have determined that 36 months represents an appropriate interval of time wherein the proposed actions can be accomplished during scheduled maintenance intervals for the majority of affected operators, and an acceptable level of safety can be maintained. This compliance time is consistent with the recommendation of the airplane manufacturer.

Changes to 14 CFR Part 39/Effect on the Proposed AD

On July 10, 2002, the FAA issued a new version of 14 CFR part 39 (67 FR 47997, July 22, 2002), which governs the FAA's airworthiness directives system. The regulation now includes material that relates to altered products, special flight permits, and alternative methods of compliance (AMOCs). Because we have now included this material in part 39, only the office authorized to approve AMOCs is identified in each individual AD.

Explanation of Cost Impact

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 333 airplanes of the affected design in the worldwide fleet. The FAA estimates that 88 airplanes of U.S. registry would be affected by this proposed AD.

It would take approximately 1 work hour per airplane to accomplish the proposed inspection, at an average labor rate of $65 per work hour. Based on these figures, the cost impact of the proposed inspection on U.S. operators is estimated to be $5,720, or $65 per airplane.

Should an operator be required to accomplish the replacement of a hose assembly, it would take approximately 12 work hours per hose assembly, at an average labor rate of $65 per work hour. Required parts would cost between $795 and $1,169 per hose assembly. Based on these figures, the cost impact of the proposed replacement is estimated to be between $1,575 and $1,949 per hose assembly.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Boeing: Docket 2003-NM-84-AD.

Applicability: All Model 747-100, 747-100B, 747-100B SUD, 747-200B, 747-200C, 747-200F, 747-300, 747SP, and 747SR series airplanes; certificated in any category; and equipped with BFGoodrich slides or slide/rafts having part number 7A1238-( )( ), 7A1239-( )( ), 7A1248-( )( ), 7A1261-( )( ), 7A-1255-( )( ), 7A-1256-( )( ), or 7A-1257-( )( ), where “( )( )” represents any dash number of those part numbers.

Compliance: Required as indicated, unless accomplished previously.

To prevent the failure of an emergency slide or slide/raft to fully inflate during an emergency situation, which could impede an evacuation and result in injury to passengers or airplane crewmembers, accomplish the following:

Inspection to Determine Manufacturing Date

(a) Within 36 months after the effective date of this AD, perform a one-time inspection of the part number information label on each inflation hose assembly on each emergency evacuation slide or slide/raft to determine the manufacturing/test date of the inflation hose assembly. Do this inspection per BFGoodrich Service Bulletin 25-241, dated September 30, 1991. If the manufacturing/test date is May 30, 1983, or later, no further action is required for that inflation hose assembly.

Replacement of Inflation Hose Assembly

(b) For any inflation hose assembly having a manufacturing/test date before May 30, 1983, or on which the manufacturing/test date cannot be determined: Before further flight, replace the subject inflation hose assembly with a new or serviceable hose assembly having a manufacturing/test date on or after May 30, 1983, per BFGoodrich Service Bulletin 25-241, dated September 30, 1991.

Parts Installation

(c) As of the effective date of this AD, no person shall install an inflation hose assembly having a manufacturing/test date before May 30, 1983, or on which the manufacturing/test date cannot be determined, on an emergency evacuation slide or slide/raft on any airplane.

Alternative Methods of Compliance

(d) In accordance with 14 CFR 39.19, the Manager, Seattle Aircraft Certification Office (ACO), FAA, is authorized to approve alternative methods of compliance for this AD.

Issued in Renton, Washington, on June 30, 2003.
Vi L. Lipski,
Manager, Transport Airplane Directorate, Aircraft Certification Service.

[FR Doc. 03-17316 Filed 7-8-03; 8:45 am]

BILLING CODE 4910-13-P